DEPARTMENT OF DEFENSE

Department of the Navy

Notice of Performance Review Board Membership

AGENCY: Department of the Navy, DoD.

ACTION: Notice.

SUMMARY: Pursuant to 5 U.S.C. 4314(c)(4), the Department of the Navy (DON) announces the appointment of members to the DON's numerous Senior Executive Service (SES) Performance Review Boards (PRBs). The purpose of the PRBs is to provide fair and impartial review of the annual SES performance appraisal prepared by the senior executive's immediate and second level supervisor; to make recommendations to appointing officials regarding acceptance or modification of the performance rating; and to make recommendations for performance bonuses and basic pay increases. Composition of the specific PRBs will be determined on an ad hoc basis from among individuals listed below:

ADAMS, P. C. MS.

ARCHITZEL, D. RADM

ARNY, L. W. MR.

BALDERSON, D. MS.

BALDERSON, W. M. MR.

BARBER, A. H. MR.

BARNUM, H. C. MR.

BAUMAN, D. M. MR.

BELAND, R. W. DR.

BETRO, T. A. MR.

BLAIR, A. K. MS.

BLINCOE, R. J. MR.

BOURBEAU, S. J. MS.

BRANCH, E. B. MR.

BRAY, W. P. MR.

BRENNAN, A. M. MS.

BROTHERTON, A. E. MS.

BROWN, M. RDML

CALI, R. T. MR.

CAREY, R. J. MR.

CARLIN, R. T. DR.

CARR, N. RDML

CASTELLAW, J. LTGEN

COHN, H. A. MR.

COLEMAN, R. LTGEN

COOK, C. E. MR.

COOLEY, K. MR.

COX, A. D. MR.

CREEDON, C. MR.

CWALINA, B. B. MR.

DAVENPORT, D. RADM

DAVIS, A. R. MS.

DAVIS, L. C. DR.

DECKER, J. MS.

DECKER, M. H. MR.

DEITCHMAN, M. MR.

DELIGNE, W. J. MR.

DEUTSCH, K. RADM

DILLON, B. MR.

DUNN, S. C. MR.

EASTBURG, S. RDML

ECCLES, T. RDML

EHRLER, S. M. MR.

ELLIS, W. G. MR.

ENEWOLD, G. RADM

ETTER, D. M., THE HONORABLE

EVANS, G. L. MS.

EVANS, I. E. MS.

EVANS, J. J. MR.

EXLEY, R. L. MR.

FERGUSON, J.F. MR.

FERKO, J. G. MR.

FLYNN, T. V. RDML

FISCHER, J. W. DR.

FITZGERALD, M. VADM

FRANKFURT, T. MR.

FRANTZ, G. T. MR.

FRICK, M. S. RDML

GAHAGAN, D. CAPT.

GALGANO, M. MR.

GALLOWAY, J. MR.

GAVIN, V. S. MR.

GLAS, R. MR.

GODDARD, C. H. RDML

GONZALEZ, A. H. MR.

GOODHART, J. C. MR.

GORDON, F. E. DR.

GRIFFES, M. D. MR.

GRIFFIN, R. MR.

GUARD, H. MR.

HAMILTON, C. RADM

HANNAH, B. W. DR.

HARNED, N. MS.

HARVEY, J. C. VADM

HAYNES, R. S. MR.

HEELY, T. RADM

HERR, R. DR.

HILARIDES, W. H. RDML

HOGUE, R. D. MR.

HONECKER, M. W. MR.

HOWARD, J. S. MR.

ISELIN, S. MR.

JAGGARD, M. F. MR.

JAMES, J. H. MR.

JIMENEZ, F., THE HONORABLE

JOHNSON, J. L. MR.

JOHNSON, S. RADM

JUNKER, B. R. DR.

KARLE, I. DR.

KRAMLICH, R. S. LTGEN

KASKIN, J. D. MR.

KEEN, S. L. MS.

KLEINTOP, M. U. MS.

KRASIK, S. A. MS.

KRUM, R. A. MR.

KUNESH, N. J. MR.

LAKE, R. BGEN

LANDAU, S. P. MR.

LAUX, T. E. MR.

LAWRENCE, J.P. DR.

LEACH, R. A. MR.

LEDVINA, T. N. MR.

LEGGIERI, S. R. MS.

LEIKACH, K. MR.

LOFTUS, J. V. MS.

LONG, L. MS.

LUCCHINO, C. MS.

LUNDBERG, D. A. MR.

LUNNEY, J. E. MR.

LUTTERLOH, S. MR.

MAGLICH, M. F. MR.

MAGNUS, R. LTGEN

MAGUIRE, M. M. MS.

MARSHALL, J. B. MR.

MASCIARELLI, J. R. MR.

MCCARTHY, J. MR.

MCCORMACK, JR., D. F. MR.

MCCOY, K. M. RDML

MCCURDY, J. MR.

MCGRATH, M. F. MR.

MCLAUGHLIN, P. M. MR.

MCNAIR, J. W. MR.

MEADOWS, L. J. MS.

MEEKS JR.

A. W. DR.

MENG, J. C. DR.

MILLER, C. A. MR.

MITCHELL, S. MR.

MOLZAHN, W. R. MR.

MONTGOMERY, J. A. DR.

MURRAY, S. MS.

MUTH, C. C. MS.

NAVAS JR., W. A., THE HONORABLE

NYALKO, L. J. MS.

O'NEIL, S. M. MR.

PAOLETTI, C. MR.

PENN, B. J., THE HONORABLE

PERSONS, B. J. MR.

PIC, J. E. MR.

PIVIROTTO, R. R. MR.

PLUNKETT, B. J. MR.

RAPS, S. P. MS.

REEVES, C. R. MR.

ROBERTS, T. MS.

RODRIGUEZ, RDML

ROLLOW, T. A. MR.

ROSENTHAL, R. J. MR.

RYZEWIC, W. H. MR.

SANDERS, D. K. MR.

SANDEL, E. A. MS.

SCHAEFER, J. C. MR.

SCHREGARDUS, D. R. MR.

SEE, V. RDML

SHANNON, W. RDML

SHARP, B. A. MR.

SHEPHARD, M. R. MS.

SIEL JR., C. R. MR.

SKINNER, W. RDML

SMERCHANSKY, J. H. MR.

SMITH, R. F. MR.

SMITH, R. M. MR.

SOLHAN, G. W. MR.

SOMOROFF, A. R. DR.

SORENSON, D. CAPT

SPANN, L. H. MR.

STEFFEE, D. P. MR.

STILLER, A. F. MS.

SUMMERALL, W. MR.

TAMBURRINO, P. M. MR.

TESCH, T. G. MR.

THACKRAH, J. MR.

THOMSEN, J. E.

TIMME, W. G. RDML

TOWNSEND, D. K. MS.

WALLS, V. J. MR.

WARD, J. D. MR.

WEDDEL, D. W. MR.

WEYMAN, A. S. MR.

WHITTEMORE, A. MS.

WHITTMANN, J. MR.

WOOD, B. H. MR.

and WIERINGA, J. A. RDML

FOR FURTHER INFORMATION CONTACT: Ms. Nancy Palmer, Office of Civilian Human Resources, telephone: 202-685-6665.

Dated: September 10, 2007.
T.M. Cruz,
Lieutenant, Judge Advocate General's Corps, U.S. Navy, Federal Register Liaison Officer.

[FR Doc. E7-18232 Filed 9-14-07; 8:45 am]

BILLING CODE 3810-FF-P